DEPARTMENT OF HEALTH AND HUMAN SERVICES

Administration for Community Living

Agency Information Collection Activities; Submission for OMB Review; Public Comment Request; Older American Act Title III and Title VII (Chapters 3 and 4) Annual State Program Reporting (Annual Performance Data Collection); This is a Revision to the Existing State Program Report (OMB Approval 0985-0008)

AGENCY: Administration for Community Living (ACL), HHS.

ACTION: Notice.

SUMMARY: The Administration for Community Living is announcing that the proposed collection of information listed above has been submitted to the Office of Management and Budget (OMB) for review and clearance as required under section 506(c)(2)(A) of the Paperwork Reduction Act of 1995. This 30-Day notice collects comments on the information collection requirements related to annual performance data from State grantees under the Older Americans Act related to Title III and Title VII (Chapters 3 and 4) of that act. Title III includes, for example, home delivered and congregate meal services, transportation and caregiver service; and Title VII includes Elder Abuse Prevention and Legal Assistance Development (ICR Rev).

DATES: Submit written comments on the collection of information by May 2, 2018.

ADDRESSES: Submit written comments on the collection of information by:

(a) Email to: OIRA_submission@omb.eop.gov, Attn: OMB Desk Officer for ACL;

(b) Fax to 202.395.5806, Attn: OMB Desk Officer for ACL; or

(c) By mail to the Office of Information and Regulatory Affairs, OMB, New Executive Office Bldg., 725 17th St. NW, Rm. 10235, Washington, DC 20503, Attn: OMB Desk Officer for ACL.

FOR FURTHER INFORMATION CONTACT: ACL's Office of Performance and Evaluation at SPRredesign.comments@acl.hhs.gov.

SUPPLEMENTARY INFORMATION: In compliance with 44 U.S.C. 3507, ACL has submitted the following proposed collection of information to OMB for review and clearance. This collection is a revision of the 2016 approved version of the State Program Report and incorporates significant reduction in data collected. This data collection is essential to provide performance measures as required by Congress and the GPRA Modernization Act of 2010 (GPRAMA). Significant revisions to the SPR were last implemented in 2005. This proposed collection is a revision of the currently approved version (effective 2016-2019). The factors that influenced the proposed revision of the SPR, include: (1) The need to modernize the data structure to allow for more efficient reporting and the ability to use current technology for reporting and analysis; (2) the interest in aligning data elements within and across data collections; (3) the need to consider alternative data elements that reflect the current Aging Network and long-term care services and supports; and (4) the need to reduce reporting burden while enhancing data quality. The proposed SPR revision reduces the number of data elements reported by 70% and the amount of time for completion by 30% as compared to the current 2016-2019 SPR. This is a reduction of 874 hours from the previous version.

Reductions in data elements are found throughout the data collection but are concentrated in the consumer demographic components. Due to the aggregate level nature of the SPR, information on combinations of demographic characteristics (e.g., number of women served who are 65 years or older and have 2 activity of daily living limitations) require exponentially larger numbers of data elements compared to single demographic characteristics (e.g. number of women served). To reduce the reporting burden associated with the number of data elements ACL is proposing to limit data element combinations. For example, the revised SPR asks for demographic characteristic such as age, race, and gender for three or more ADL and IADLs rather than for zero, one, two and three or more ADLs and IADLs. The remaining proposed demographic data elements include indicators of priority populations (i.e., social and economic vulnerability and frailty) found in the OAA and will allow ACL to continue to measure efforts to target services.

Limited expansions in data elements are found in the Title III-E National Family Caregiver Support Program service component. The proposal separates out three service areas that were reported as a whole (i.e., counseling, training and support group services). Separation allows for support group services to be categorized as a non-registered service for which consumer demographic details are no longer reported. Additional information regarding the types of respite services provided under the OAA is sought. The proposal separates assistance services into two types: (1) Case management, and (2) information and assistance. Case management assistance services are categorized as registered, meaning caregiver demographic data are reported while information and assistance services do not include reporting of demographic data. Supplemental services are reported in the same manner as “other service” under Title III-B, Home and Community-based Services (HCBS) program. Across the OAA services, greater detail regarding expenditure data is proposed. Under Title III-B, HCBS program, the proposed data collection expands data regarding Title VII legal assistance services. The ACL seeks data on the OAA identified priority legal issues for closed cases.

Comments in Response to the 60-Day Federal Register Notice

A 60-day Federal Register Notice was published in the Federal Register on June 1, 2017, Vol. 82, No. 104, pp. 25293-25294.

ACL received comments from fourteen (14) organizations and one (1) individual about the State Performance Report (SPR) redesign. ACL reviewed all of the comments, but some of the comments were deemed not relevant because they were: (a) About the data submission process itself (b) did not request a change (c) only commented on the format (d) indicated topics for technical assistance and training for the final data collection or (e) provided commentary without referencing the SPR. Regarding concerns about the:

• Timeline-ACL proposes moving the effective date back by 12 months,

• Cost, burden, and changes to data elements-ACL recognizes that there is always a cost to changing data systems, but believes that the anticipated improvement in the data justifies the proposed changes,

• New items related to Legal Services-ACL worked closely with program staff and stakeholders to develop a reasonable data collection to measure the contribution of this important program about which performance data were not previously collected,

• Need for additional elements including sub-state and individual level data-ACL is not adding more elements or more granular data collection at this time but will consider those suggestions for future data collections,

• Need for improved definitions and language-ACL made several changes to specific elements and is using these comments to inform the training and technical assistance it provides, and

• Caregiver program-ACL made revisions to several items and is using these comments to inform the training and technical assistance it provides.

A detailed analysis of the comments and responses can be found at (https://www.reginfo.gov/public/do/PRAMain.

The proposed data collection template may be found on the ACL website at https://www.acl.gov/about-acl/public-input.

Estimated Program Burden: ACL estimates the burden of this collection of information as follows: 56 State Agencies on Aging respond annually and it will take an average of 33.5 hours for a total of 1,876 hours. This is a reduction of 874 hours from the previous version. The burden estimate of 33.5 hours was derived from feedback from grantees.

Respondent/data collection activity | Number of respondents | Responses per respondent | Hours per response | Annual burden hours
Older American Act Title III and Title VII (Chapters 3 and 4) Annual State Program Reporting | 56 | 1 | 33.5 | 1,876
Total | 56 | 1 | 33.5 | 1,876

Dated: March 26, 2018.
Mary Lazare,
Principal Deputy Administrator.

[FR Doc. 2018-06662 Filed 3-30-18; 8:45 am]

BILLING CODE 4154-01-P